DEPARTMENT OF TRANSPORTATION

Federal Aviation Administration

14 CFR Part 71

[Docket No. FAA-2009-0750; Airspace Docket No. 09-AEA-16]

Establishment of Class D and E Airspace and Modification of Class E Airspace; State College, PA

AGENCY: Federal Aviation Administration (FAA), DOT.

ACTION: Final rule.

SUMMARY: This action establishes Class D and E airspace and modifies existing Class E airspace at State College, PA, to accommodate a new air traffic control tower at University Park Airport. The FAA is taking this action to enhance the safety and management of instrument Flight Rules (IFR) operations.

DATES: Effective Date: 0901 UTC, April 8, 2010. The Director of the Federal Register approves this incorporation by reference action under title 1, Code of Federal Regulations, part 51, subject to the annual revision of FAA Order 7400.9 and publication of conforming amendments.

FOR FURTHER INFORMATION CONTACT: Melinda Giddens, Airspace Specialist, Operations Support Group, Eastern Service Center, Air Traffic Organization, Federal Aviation Administration, P.O. Box 20636, Atlanta, Georgia 30320; telephone (404) 305-5610.

SUPPLEMENTARY INFORMATION:

History

On October 23, 2009, the FAA proposed to amend Title 14 Code of Federal Regulations (14 CFR) part 71 by establishing Class D and E airspace and modifying Class E airspace at University Park Airport, State College, PA (74 FR 54763). A newly commissioned air traffic control tower at University Park Airport was established. Interested parties were invited to participate in this rulemaking proceeding by submitting written comments on the proposal to the FAA. No comments objecting to the proposal were received.

Class D airspace designations, Class E surface airspace designations (E2) and Class E airspace designations as extensions to a Class D surface area (E4) are published in Paragraph 5000, 6002 and 6004, respectively, in FAA Order 7400.9T, signed August 27, 2009, and effective September 15, 2009, which is incorporated by reference in 14 CFR 71.1. The Class D and E airspace designations listed in this document will be published subsequently in the Order.

The Rule

This amendment to Title 14, Code of Federal Regulations (14 CFR) part 71 establishes Class D and E airspace and modifies existing Class E surface airspace at State College, PA. Class D airspace and Class E airspace designated as an extension to a Class D surface area has been established to support the operation of the new air traffic control tower at University Park Airport. Also, additional controlled airspace will be added to the Class E airspace, designated as a surface area for the airport. This action also imparts a minor update to the geographical coordinates of the University Park Airport.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Lists of Subjects in 14 CFR Part 71

Airspace, Incorporation by reference, Navigation (air).

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, and effective September 15, 2009, is amended as follows:

Paragraph 5000 Class D Airspace.

* * * * *

AEA PA D State College, PA [New]

University Park Airport, PA

(Lat. 40°50′57″ N., long. 77°50′55″ W.)

That airspace extending upward from the surface up to and including 3,500 feet MSL within a 4.5-mile radius of the University Park Airport. This Class D airspace area is effective during specific dates and times established in advance by a Notice to Airmen. The effective date and time will thereafter be continuously published in the Airport/Facility Directory.

* * * * *

Paragraph 6002 Class E Airspace Designated as Surface Areas.

* * * * *

AEA PA E2 State College, PA [Amended]

University Park Airport, PA

(Lat. 40°50′57″ N., long. 77°50′55″ W.)

That airspace extending from the surface within a 4.5-mile radius of the University Park Airport; and 1.1 mile either side of the 302° bearing from the airport, extending from the 4.5-mile radius to 5.9 miles northwest of the airport; and that airspace 2.5 miles either side of the 053° bearing from the University Park Airport, extending from the 4.5-mile radius to 13.1 miles northeast of the airport. This Class E airspace area is effective during specific dates and times established in advance by a Notice to Airmen. The effective date and time will thereafter be continuously published in the Airport/Facility Directory.

* * * * *

Paragraph 6004 Class E Airspace Areas Designated as an Extension to a Class D Surface Area.

* * * * *

AEA PA E4 State College, PA [New]

University Park, PA

(Lat. 40°50′57″ N., long. 77°50′55″ W.)

That airspace extending from the surface 1.1 mile either side of the 302° bearing from the airport extending from the 4.5-mile radius to 5.9 miles northwest of the airport; and that airspace 2.5 miles either side of the 053° bearing from the University Park Airport extending from the 4.5-mile radius to 13.1 miles northeast of the airport. This Class E airspace area is effective during specific dates and times established in advance by a Notice to Airmen. The effective date and time will thereafter be continuously published in the Airport/Facility Directory.

* * * * *

Issued in College Park, Georgia, on January 15, 2010.
Myron A. Jenkins,
Acting Manager, Operations Support Group, Eastern Service Center, Air Traffic Organization.

[FR Doc. 2010-1377 Filed 1-26-10; 8:45 am]

BILLING CODE 4910-13-P